DEPARTMENT OF EDUCATION

National Assessment Governing Board Quarterly Board Meeting

AGENCY: National Assessment Governing Board, U.S. Department of Education.

ACTION: Announcement of open and closed meetings.

SUMMARY: This notice sets forth the agenda for the August 4-6, 2016 Quarterly Board Meeting of the National Assessment Governing Board (hereafter referred to as Governing Board). This notice provides information to members of the public who may be interested in attending the meeting or providing written comments on the meeting. The notice of this meeting is required under § 10(a)(2) of the Federal Advisory Committee Act (FACA).

DATES: The Quarterly Board Meeting will be held on the following dates:

• August 4, 2016 from 12:00 p.m. to 6:00 p.m.

• August 5, 2016 from 8:30 a.m. to 4:30 p.m.

• August 6, 2016 from 7:30 a.m. to 12:00 p.m.

ADDRESSES: Sofitel Chicago Water Tower, 20 East Chestnut Street, Chicago, IL 60611

FOR FURTHER INFORMATION CONTACT: Munira Mwalimu, Executive Officer/Designated Federal Official of the Governing Board, 800 North Capitol Street NW., Suite 825, Washington, DC 20002, telephone: (202) 357-6938, fax: (202) 357-6945.

SUPPLEMENTARY INFORMATION: Statutory Authority and Function: The Governing Board is established under the National Assessment of Educational Progress Authorization Act, Title III of Public Law 107-279. Information on the Governing Board and its work can be found at www.nagb.gov.

The Governing Board is established to formulate policy for the National Assessment of Educational Progress (NAEP). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

August 4-6, 2016 Committee Meetings

The Governing Board's standing committees will meet to conduct regularly scheduled work based on agenda items planned for this Quarterly Board Meeting and follow-up items as reported in the Governing Board's committee meeting minutes available at http://nagb.gov/what-we-do/board-committee-reports-and-agendas.html.

Detailed Meeting Agenda: August 4-6, 2016

August 4: Assessment Development Committee (ADC): Closed Session: 12:00 p.m.-4:00 p.m.

August 4: Committee on Standards, Design and Methodology (COSDAM): Open Session: 1:00 p.m.-4:00 p.m.

August 4: Reporting and Dissemination (R&D) Committee: Open Session: 1:00 p.m.-4:00 p.m.

August 4: Executive Committee: Open Session: 4:30 p.m.-5:20 p.m.; Closed Session: 5:20 p.m.-6:00 p.m.

August 5: Full Governing Board and Committee Meetings:

Full Governing Board: Open Session: 8:30 a.m.-10:15 a.m.; 12:30 p.m.-4:30 p.m.

ADC: Open Session: 10:30 a.m.-11:25 a.m.; Closed Session: 11:25 a.m.-12:15 p.m.

R&D Committee: Open Session 10:30 a.m.-12:15 p.m.

COSDAM: Open Session: 10:30 a.m.-12:15 p.m.

August 6: Full Governing Board and Committee Meetings:

Nominations Committee: Closed Session: 7:30 a.m.-8:15 a.m.

Full Governing Board: Open Session: 8:30 a.m.-12:00 p.m.

On August 4, 2016, the ADC will meet in closed session from 12:00 p.m.-4:00 p.m. to review the following secure NAEP test items: 2017 reading items at grades 4 and 8; 2017 writing items at grades 4 and 8; 2017 mathematics items at grades 4 and 8; and 2019 reading pilot items for grade 4. This meeting must be conducted in closed session because the test items are secure and have not been released to the public. Public disclosure of the secure test items would significantly impede implementation of the NAEP assessment program if conducted in open session. Such matters are protected by exemption 9(B) of § 552b(c) of Title 5 of the United States Code.

On August 4, the COSDAM will meet in open session from 1:00 p.m. to 4:00 p.m. to conduct regularly scheduled work and the R&D Committee will meet in open session from 2:30 p.m. to 4:00 p.m. to conduct regularly scheduled work.

The Executive Committee will meet in open session on August 4 from 4:30 p.m. to 5:20 p.m. to discuss the nomination of the Governing Board's Vice Chair, the Strategic Vision initiative, and NAEP research grants. The Executive Committee will meet thereafter in closed session from 5:20 p.m. to 6:00 p.m. During the closed session, the Executive Committee will receive and discuss independent government cost estimates and implications for implementing NAEP's Assessment Schedule through 2024. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of § 552b(c) of Title 5 of the United States Code.

On August 5, the full Governing Board will meet in open session from 8:30 a.m. to 10:15 a.m. The Governing Board will review and approve the August 4-6, 2016 Governing Board meeting agenda and meeting minutes from the May 2016 Quarterly Board Meeting. The Governing Board will then receive welcoming remarks from policymakers representing the Illinois Department of Education and Chicago Public Schools. This session will be followed by a report from the Executive Director of the Governing Board, William Bushaw, followed by updates on the work of the Institute of Education Sciences (IES) and National Center for Education Statistics (NCES) provided by the Acting Commissioner of NCES, Peggy Carr. The Governing Board will recess for committee meetings at 10:15 a.m. which are scheduled to take place from 10:30 a.m. to 12:15 p.m.

The COSDAM and R&D Committees will meet in open session from 10:30 a.m. to 12:15 p.m. The ADC will meet in open session from 10:30 a.m. to 11:25 a.m. and thereafter in closed session from 11:25 a.m. to 12:15 p.m. to review assessment items for the NAEP transition to digital-based assessments (DBA). The review will include secure items in reading, mathematics and science at grades 4 and 8 from the 2016 pilot, in preparation for the 2017 operational assessment. The committee's reviews and discussions on secure test items cannot be discussed in an open meeting to protect the confidentiality of the secure assessment materials. Premature disclosure of these results would significantly impede implementation of the NAEP assessment program, and is therefore protected by exemption 9(B) of § 552b(c) of Title 5 of the United States Code.

Following the committee meetings on August 5, the full Governing Board will meet in open session from 12:30 p.m. to 4:30 p.m.

From 12:30 p.m. to 2:30 p.m., the Governing Board will have a panel discussion on secondary researchers' use of NAEP data, to be moderated by Governing Board member Andrew Ho, Chair of the COSDAM. Following this session and a break of 30 minutes, the Governing Board will discuss the draft Strategic Vision document from 3:00 p.m. to 4:30 p.m., with an overview provided by the Governing Board's Vice Chair, Lucille Davy. After the overview, the Governing Board will convene in three small groups to discuss the draft Strategic Vision. Members of the public are welcome to observe the breakout sessions. The August 5 session of the Governing Board meeting will adjourn at 4:30 p.m.

On August 6, the Nominations Committee will meet in closed session from 7:30 a.m. to 8:15 a.m. The committee will discuss planning for the Governing Board's annual call for nominations for Governing Board terms beginning in October 2017. The 2017 call for nominations is scheduled to start in September 2016. The Nominations Committee's discussions pertain solely to internal personnel rules and practices of an agency and information of a personal nature where disclosure would constitute a clearly unwarranted invasion of personal privacy. As such, the discussions are protected by exemptions 2 and 6 of § 552b(c) of Title 5 of the United States Code.

The full Governing Board will meet in open session on August 6, from 8:30 a.m. to 12:00 p.m. The session will begin with remarks by outgoing Governing Board member Anitere Flores from 8:30 a.m. to 8:40 a.m., followed by full Governing Board discussion on the Strategic Vision from 8:40 a.m. to 9:45 a.m. Thereafter, the Governing Board will have a short break and reconvene from 10:00 a.m. to 10:45 a.m. The Governing Board will receive an update on committee reports and take action on the election of the Board Vice Chair. From 10:45 a.m. to 12:00 p.m. the Governing Board will receive a briefing from NCES staff on contextual variables, an Inside NAEP series. The August 6, 2016 meeting is scheduled to adjourn at 12:00 p.m.

Access to Records of the Meeting: Pursuant to FACA requirements, the public may also inspect the meeting materials at www.nagb.gov beginning on Thursday, August 5, 2016 by 10:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe Web site.

You may also access documents of the Department published in the Federal Register by using the article search feature at: www.federalregister.gov. Specifically, through the advanced search feature at this site, you can limit your search to documents published by the Department.

Authority: Pub. L. 107-279, Title III—National Assessment of Educational Progress § 301.

Dated: July 18, 2016.
William J. Bushaw,
Executive Director, National Assessment Governing Board (NAGB), U.S. Department of Education.

[FR Doc. 2016-17331 Filed 7-20-16; 8:45 am]

BILLING CODE P